FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011117-030.

Title: United States/Australasia Interconference and Carrier Discussion Agreement.

Parties:

P&O Nedlloyd Limited

Australia-New Zealand Direct Line, a division of CP Ships (UK) Limited

Contship Containerlines, a division of CP Ships (UK) Limited

Hamburg-Süd

Compagnie Marseille Fret

Wallenius Wilhelmsen Lines AS

CMA CGM

FESCO Ocean Management Limited

Maersk Sealand

Synopsis: The proposed agreement modification deletes the United States Australasia Agreement as a party to the agreement, changes the agreement name to the United States/Australasia Discussion Agreement, and deletes the Pacific Islands from the geographic scope. The amendment breaks Article 5.1(a) into two sub-paragraphs and revises the language of various sub-paragraphs to clarify the authority contained in the agreement. New sub-paragraphs 5.1(c) and 5.1(d) authorize agreement and multi-carrier service contracts. The parties are deleting the reference to conferences in Article 7, adding voting procedures for agreement service contracts and amendments in Article 8, and deleting Article 11 authorizing Independent Action. The amendment also makes technical corrections required by Australian law to Appendix B.

Agreement No.: 011435-007.

Title: APL/TMM/Lykes Space Charter Agreement.

Parties:

American President Lines, Ltd.—APL Co. Pte Ltd.,

TMM Lines Limited, LLC,

Lykes Lines Limited, LLC.

Synopsis: The amendment narrows the agreement's geographic scope and revises the agreement's authority and duration; the amendment also re-states the agreement.

Agreement No.: 011845.

Title: CCNI/Lykes Slot Charter Agreement.

Parties:

Compania Chilena de Navegacion Interoceanica S.A.

Lykes Lines Limited, LLC.

Synopsis: The agreement would authorize CCNI to charter space from Lykes on the latter's vessels in the trade between Port Everglades, Florida and Puerto Rico, on the one hand, and ports in Costa Rica, Guatemala, the Dominican Republic, and Colombia, on the other hand, and engage in cooperative activities related to such charter. Expedited Review is requested.

Agreement No.: 011846.

Title: CCNI/Maruba Cooperative Working Agreement.

Parties:

Compania Chilena de Navegacion Interoceanica S.A.

Empresa Maruba S.C.A.

Synopsis: The agreement permits the parties to charter vessels and vessel space to each other in the trade between the Pacific Coast of the United States and the Pacific Coast of Central and South America, on the one hand, and East and South Asia, on the other. It also authorizes the parties to enter into cooperative working agreements concerning the space chartering.

By Order of the Federal Maritime Commission.
Dated: March 14, 2003.
Bryant L. VanBrakle,
Secretary.

[FR Doc. 03-6605 Filed 3-18-03; 8:45 am]

BILLING CODE 6730-01-P